DEPARTMENT OF HOUSING AND URBAN DEVELOPMENT

[Docket No. FR-4456—N-11]

Privacy Act of 1974—Proposed Amendment to a System of Records

AGENCY: Office of the Chief Information Officer, HUD.

ACTION: Notification of the re-designation of an existing system of records and proposed amendments to the system of records.

SUMMARY: Pursuant to the provision of the Privacy Act of 1974, as amended (5 U.S.C. 552a), the Department of Housing and Urban Development is re-designating HUD/PIH-1, “Tenant Eligibility Verification Files,” previously published on February 9, 1999 (64 FR 6371); to the new designation HUD/REAC-1, “Tenant Eligibility Verification Files.” The system of records notice below supersedes the system of records notice published on, February 9, 1999 (64 FR 6371). HUD/REAC-1 contains the same provisions as HUD/PIH-1 except for the following substantive changes: (1) The re-designation of the system of records to HUD/REAC-1 recognizes the transfer of responsibilities for the computer matching program from the Office of Public and Indian Housing to the Real Estate Assessment Center (REAC); and (2) HUD/REAC-1 expands the type of files to include: (a) Automated records used by housing agencies, owners and agents when providing HUD with information on actions taken to resolve income differences noted by computer matching, and (b) encrypted read-only files REAC employees may use while at housing agency, owner or agent sites containing SSA and IRS information subject to the disclosure provisions of 26 U.S.C. 6103. Aggregated statistics on the initial computer matching results and actions taken to resolve income differences may be made available to internal HUD Program Offices and HUD-contracted Contract Administrators.

HUD/REAC-1 contains computer matching and other tenant eligibility verification records necessary to support the identification of tenants who have been or may be obtaining inappropriate (excessive or insufficient) rental assistance. The system of records also supports disclosure of information, other than Federal tax return information, concerning those tenants to entities that administer HUD rental assistance programs and to law enforcement agencies for possible administrative or legal actions, as appropriate. Entities that administer HUD rental assistance programs are: housing agencies, Indian Tribes and Tribally Designated Housing Entities participating in the Section 8 Program, owners of subsidized multifamily projects, and management agents (hereinafter referred to collectively as “POAs”); under certain limited circumstances, such as when HUD declares a Public Housing Authority in breach of an annual contributions contract, HUD itself may act as a POA. Additionally, HUD/REAC-1 provides information needed to evaluate actions taken to resolve income discrepancies affecting rental assistance.

DATES: Effective Date: This proposal shall become effective without further notice on September 29, 2000 unless comments are received during or before this period which would result in a contrary determination.

Comments Due By: September 29, 2000.

ADDRESSES: Interested persons are invited to submit comments regarding this notice to the Rules Docket Clerk, Office of General Counsel, Room 10276, Department of Housing and Urban Development, 451 Seventh Street, SW, Washington, DC 20410-0500. Communications should refer to the above docket number and title. An original and four copies of comments should be submitted. Facsimile (FAX) comments are not acceptable. A copy of each communication submitted will be available for public inspection and copying between 7:30 a.m. and 5:30 p.m. weekdays at the above address.

FOR FURTHER INFORMATION CONTACT: Jeanette Smith, Departmental Privacy Act Officer, Telephone Number (202) 708-2374, concerning Privacy Act matters. Regarding records maintained in Washington, DC; Chicago, Illinois; and Seattle, Washington contact the following, respectively: David L. Decker, Project Manager, Tenant Assessment Sub-System, REAC, Telephone Number (202) 708-4932, extension 3214; William Siska, Director, Chicago Technical Assistance Center, Telephone Number (312) 353-6236, extension 2084; and Gordon Brandhagen, Director, Seattle Technical Assistance Center, Telephone Number (206) 220-5312. (These are not toll free numbers.)

SUPPLEMENTARY INFORMATION: HUD published a notice on September 14, 1999 (64 FR 49817) of its plan for large-scale implementation of its existing computer matching program concerning tenant data in assisted housing programs. During the second and third quarter of Fiscal Year 2000 HUD began sending letters containing SSA and IRS return information to tenants, and notices of potential income discrepancies to housing agencies, owners and agents based on its large-scale matching initiative.

A report of the Department's intention to establish the system has been submitted to the Office of Management and Budget (OMB), the Senate Committee on Governmental Affairs, and the House Committee on Government Operations pursuant to paragraph 4c of Appendix I to OMB Circular No. A-130, “Federal Agency Responsibilities for Maintaining Records About Individuals,” July 25, 1994; 59 FR 37914.

Authority: 5 U.S.C. 552a; 88 Stat. 1896; 42 U.S.C. 3535(d).

Dated: August 22, 2000.
Gloria R. Parker,
Chief Information Officer.

HUD/REAC-1

System Name:

Tenant Eligibility Verification Files.

System Locations:

The files will be maintained at the following locations: (1) U. S. Department of Housing and Urban Development, Real Estate Assessment Center, 1280 Maryland Avenue, SW, Suite 800, Washington, DC 20024-2635; (2) Chicago Technical Assistance Center, U.S. Department of Housing & Urban Development, Ralph H. Metcalfe Federal Building, 77 West Jackson Boulevard, Chicago, Illinois 60604; (3) Seattle Technical Assistance Center, U.S. Department of Housing & Urban Development, Seattle Federal Building, 909 First Avenue, Seattle, Washington 98104. Controls will be established at 1280 Maryland Avenue, SW, for any encrypted files containing SSA and IRS return information (subject to the provisions of 26 U.S.C. 6103) that are created and used by REAC employees who will travel to the sites of housing agencies, owners and management agents.

* * * * *

Categories of Records in the System:

* * * * *

Categories of Individuals Covered by the System:

Tenants receiving rental assistance provided by programs administered by the Department of Housing and Urban Development, state agencies, and POAs.

Categories of Records in the System:

Records consist of: (1) Automated tenant data obtained from HUD/H-11, Tenant Housing Assistance and Contract Verification Data, published at 62 FR 11909; March 13, 1997, [two HUD automated systems—the Multifamily Tenant Certification System and the Tenant Rental Assistance Certification System—are the primary components of HUD/H-11]; (2) automated tenant data provided by POAs [generally these records are available in HUD/H-11]; (3) information obtained from computer matching with automated earned income data that the Social Security Administration (SSA) provides under 26 U.S.C. 6103(l)(7)(A) from the Earnings Recording and Self-Employment Income System (HHS/SSA/OSR, 09-60-0059) (Earnings Record) and Master Beneficiary Record (HHS/SSA/OSR, 09-60-0090); (4) information obtained from computer matching with automated unearned income data that the Internal Revenue Service (IRS) provides to HUD under 26 U.S.C. 6103(l)(7)(B) from Treasury/IRS 22.061, Wage and Information Returns Processing (IRP) File Treasury/IRS; (5) information obtained from computer matching with automated Title II (social security) and Title XVI (supplemental security income) data that the SSA provides to HUD under a routine use from the Supplemental Security Income Record, HHS/SSA/OSR 90-60-0103; (6) information obtained from computer matching with wage and unemployment compensation data from State wage information collection agencies; (7) information obtained from computer matching with automated data from the Office of Personnel Management's General Personnel Records (OPM/GOVT-1), and the Civil Service Retirement and Insurance Records System (OPM/Central-1) pursuant to a routine use; (8) information obtained from computer matching with automated data from the Department of Defense's Defense Manpower Data Center Data Base (S322.10.DMDC) pursuant to a routine use; (9) information obtained from computer matching with automated records from the SSA's Master Files of Social Security Number Holders, known as the Enumeration Verification System (HHS/SSA/OSR, 09-60-0058) pursuant to a routine use; (10) applications for rental assistance and other related documentation obtained from tenant case files maintained by POAs; (11) data received from employers confirming income or deductions supporting determinations of eligibility for, and the amount of, rental assistance benefits; (12) automated records provided by other Federal agencies under the investigative exclusion of the Computer Matching and Privacy Protection Act of 1988; (13) automated records provided by POAs regarding actions taken on computer matching results; (14) automated records created by the REAC for use by POAs in recording the actions taken to resolve income differences noted by the computer matching and (15) correspondence or other documents received from tenants concerning potential income discrepancies.

Authority for Maintenance of the System:

Subparagraph (D) of section 6103(l)(7) of the Internal Revenue Code 26 U.S.C. 6103(l)(7)(D), permits HUD to request from the Commissioner of the SSA and the Secretary of the Treasury, SSA and IRS earned and unearned income information, respectively, needed to verify the incomes of tenants who receive rental assistance. Section 6103(l)(7)(D) precludes HUD from redisclosing that information to entities that administer HUD programs (i.e. POAs). Section 542(b) of HUD's 1998 Appropriations Act (Pub. L. 105-65; October 27, 1997) eliminated a September 30, 1998 sunset provision to 26 U.S.C. 6103(l)(7)(D), effectively making permanent the authority for SSA and IRS disclosures of return information to HUD.

The Stewart B. McKinney Homeless Assistance Amendments Act of 1988, 42 U.S.C. 3544, as amended, allows HUD to notify POAs that discrepancies exist between the tenant-reported incomes and income obtained from independent income sources, i.e., the SSA or the IRS. The McKinney Amendments of 1988 also authorized HUD to request, under section 303(i) of the Social Security Act, wage and claim information from state agencies responsible for the administration of state unemployment law. Section 542(a)(1) of HUD's 1998 Appropriation Act, referenced above, eliminated an October 1, 1994, sunset provision to section 303(i) of the Social Security Act, effectively making permanent the authority requiring state agencies to disclose wage and claim information to HUD and public housing agencies.

Section 165 of the Housing and Community Development Act of 1987, Public Law 100-242; authorizes HUD to require applicants and participants in HUD-administered programs involving rental assistance to disclose to HUD their social security numbers as a condition of initial or continuing eligibility for participation. Subpart T of 24 CFR part 200 applies this requirement to member of households six (6) years of age and older.

Applicable laws concerning HUD's assisted housing programs include: the United States Housing Act of 1937, 42 U.S.C. 1437 note; and section 101 of the Housing and Urban Development Act of 1965, 12 U.S.C. 1701s, and the Native American Housing Assistance and Self-Determination Act of 1996, 25 U.S.C. 4101, et seq.

Purpose(s):

The primary purposes of HUD/REAC-1 are to aid HUD and entities that administer HUD's assisted housing programs in: (a) Increasing the availability of rental assistance to individuals who meet the requirements of Federal rental assistance programs, (b) detecting abuses in assisted housing programs, (c) taking administrative or legal actions to resolve past abuses of assisted housing programs, (d) deterring abuses, and (e) evaluating the effectiveness of income discrepancy resolution actions taken by public housing agencies, owners and agents for HUD's rental assistance programs. HUD/REAC-1 serves as a repository for automated information used in and resulting from computer matching of tenant data for recipients of Federal rental assistance to other data sources; HUD/REAC-1 also contains non-automated information used in and resulting from verifying computer matching results and in accomplishing the purposes previously cited. Records in this system are subject to use in authorized and approved computer matching programs regulated under the Privacy Act of 1974, as amended.

Routine Uses of Records Maintained in the System, Including Categories of Users and Purposes of Such Uses:

For all routine uses, return information obtained from the Internal Revenue Service under 26 U.S.C. 6103(l)(7) may only be disclosed as provided by 26 U.S.C. 6103.

1. Records included in the system may be used in conducting computer matching with Federal and State agencies to aid in the identification of tenants who have received inappropriate (excessive or insufficient) rental housing assistance.

2. Records that HUD obtains from the SSA and the IRS under the authority of 26 U.S.C. 6103(l)(7), may be disclosed only as permitted under 26 U.S.C. 6103, which limits disclosure to the tenant/taxpayer, and to HUD employees whose duties require access for the purpose for which the disclosure to HUD was made.

3. Records other than return information obtained from the SSA and IRS under the authority of 26 U.S.C. 6103(l)(7), may be disclosed to the appropriate Federal, state or local agency charged with the responsibility for investigating or prosecuting a violation of law, whether criminal, civil or regulatory in nature, or enforcing or implementing a statute, rule or regulation.

4. Records other than return information obtained from the SSA and IRS under the authority of 26 U.S.C. 6103(l)(7), may be disclosed to a congressional office in response to an inquiry from that congressional office made at the request of the individual who is the subject of the records.

5. Records other than return information obtained from the SSA and IRS under the authority of 26 U.S.C. 6103(l)(7), may be disclosed to POAs in order to assist them in determining tenants' eligibility for rental assistance, and the amount of that assistance and to facilitate recovery of money or property or other administrative actions (e.g., eviction), necessary to promote the integrity of programs.

6. Records other than return information obtained from the SSA and the IRS under the authority of 26 U.S.C. 6103(l)(7), may be disclosed during the course of an administrative proceeding where HUD or POAs are a party to the litigation and disclosure is relevant and reasonably necessary to adjudicate the matter.

7. Records other than return information obtained from the SSA and the IRS under the authority of 26 U.S.C. 6103(l)(7), may be disclosed to a Federal agency, in response to its request, in connection with the hiring or retention of an employee, the issuance of a security clearance, the reporting of an investigation of an employee, the letting of a contract, or the issuance of a license, grant or other benefit by the requesting agency, to the extent that the record is relevant and necessary to the requesting agency's decision on the matter.

8. Records other than return information obtained from the SSA and the IRS under the authority of 26 U.S.C. 6103(l)(7), may be disclosed to a Federal agency to initiate Federal salary or annuity offsets as necessary to collect excessive rental assistance received by the tenant.

9. Records other than return information obtained from the SSA and the IRS under the authority of 26 U.S.C. 6103(l)(7), concerning an individual's receipt of excessive rental assistance, including the individual's actions to repay the same, may be disclosed to the Federal agency that employs such individual, for the purpose of notifying the employer of potential violation of the Standards of Ethical Conduct for Employees of the Executive Branch.

10. Records other than return information obtained from the SSA and IRS under the authority of 26 U.S.C. 6103(l)(7), may be used to provide aggregate information on POAs' resolution efforts to Contract Administrators and internal HUD Offices for use in their mandated oversight responsibilities to ensure that POAs are providing appropriate rental assistance to eligible families and are resolving discrepancies identified by HUD.

11. Records may be used to provide statistical information to Congress and the Office of Management and Budget for use in evaluating: the effectiveness of computer matching and income verification programs; program policies; and actions taken by entities that administer HUD's rental assistance programs to resolve income discrepancies identified through computer matching.

Policies and Practices for Storing, Retrieving, Accessing, Retaining and Disposing of Records in the System:

Storage:

Records are stored manually in tenant case files and electronically in office automation equipment. Records other than return information obtained from the SSA and the IRS under the authority of 26 U.S.C. 6103(l)(7), may also be stored on mainframe computer facilities or computer servers for public housing agencies', owners' and agents' access via the Internet to: (1) Obtain social security and supplemental security income data that is not subject to provisions of 26 U.S.C. 6103, and (2) update actions taken in resolving income discrepancies. Records containing data subject to provisions of 26 U.S.C. 6103 may be stored in encrypted form on laptop computers that are taken to the sites of public housing agencies, owners and agents that administer HUD's rental assistance programs. Software precludes the transfer of any data subject to 26 U.S.C. 6103 to unencrypted media.

Retrievability:

Records may be retrieved by manual or computer search of indices by the name, social security number, or POA.

Safeguards:

Records are maintained in locked file cabinets or in metal file cabinets in secured rooms or premises with access limited to those persons whose official duties require access. Computer files and printed listings are maintained in locked cabinets. Computer terminals are secured in controlled areas which are locked when unoccupied. Access to automated records is limited to authorized personnel who must use a password system to gain access. HUD will safeguard the SSA and the IRS return information obtained pursuant to 26 U.S.C. 6103(l)(7)(A) and (B) in accordance with 26 U.S.C. 6103(p)(4) and the IRS's “Tax Information Security Guidelines for Federal, State and Local Agencies,” Publication 1075 (REV. 3/99).

Retention and Disposal:

Only those computer files and printouts created from the computer matching that meet predetermined criteria are maintained. These records will be destroyed as soon as they have served the matching program's purpose. All other records will be destroyed as soon as possible within 1 year. Paper listings containing personal identifiers will be shredded. Computer source files provided by other organizations will be returned to those organizations or destroyed in accordance with computer matching agreements.

Information obtained through computer matching and tenant case file reviews will be destroyed as soon as follow-up processing of this information is completed, unless the information is required for evidentiary reasons or needed by POAs for use in program eligibility determinations. When needed for evidentiary documentation, the information will be referred to the HUD Office of Inspector General (OIG) or other appropriate Federal, state or local agencies charged with the responsibility for investigating or prosecuting such violations. When referred to the HUD OIG the information then becomes a part of the Investigative Files of the Office of Inspector General, HUD/OIG-1.

System Manager(s) and Address:

Project Manager, Technical Assessment Sub-System, Real Estate Assessment Center, U.S. Department of Housing and Urban Development, 1280 Maryland Avenue, SW, Suite 800, Washington, DC 20024-2135.

Notification and Record Access Procedures:

Individuals seeking to determine whether this system of records contains information about themselves, or seeking access to such records, should address inquiries to the Project Manager, Technical Assessment Sub-System, Real Estate Assessment Center, U.S. Department of Housing and Urban Development, 1280 Maryland Avenue, SW, Suite 800, Washington, DC 20024-2635.

Written requests should contain the full name, Social Security Number, date of birth, current address and telephone number of the individual.

For personal visits, the individual must be able to provide some acceptable identification, such as a driver's license or other identification card.

CONTESTING RECORD PROCEDURES:

The procedures for amendment or correction of records, and for appealing initial agency determinations, appear in 24 CFR part 16.

Record Source Categories:

The REAC receives automated tenant data from the Assistant Secretary for Public and Indian Housing and the Assistant Secretary for Housing. The Assistant Secretaries collect information from a variety of sources, including POAs. The REAC receives data from POAs concerning actions taken to resolve income differences noted by HUD. Additionally, the REAC also receives data from other Federal and state agencies, law enforcement agencies, program participants, complainants, and other non-governmental sources.

Exemptions From Certain Provisions of the Act:

To the extent that information in this system of records falls within the coverage of subsection (k)(2) of the Privacy Act, 5 U.S.C. 552a(k)(2), the system is exempt from the requirements of subsections (c)(3), (d)(1), (d)(2) and (e)(1) of the Privacy Act. To the extent that information in this system of records falls within the coverage of subsection (k)(5) of the Privacy Act, 5 U.S.C. 552a(k)(5), the system is exempt from the requirements of subsection (d)(1) of the Privacy Act. See 24 CFR 16.15 (c) and (d).

[FR Doc. 00-22182 Filed 8-29-00; 8:45 am]

BILLING CODE 4210-01-P